DEPARTMENT OF THE INTERIOR

Bureau of Land Management

[LLCOS06000 L12200000.DP0000]

Notice of Intent To Amend the Resource Management Plan for the Gunnison Field Office and Prepare an Associated Environmental Assessment for Hartman Rocks Special Recreation Area Management Plan, Gunnison County, CO

AGENCY: Bureau of Land Management, Interior.

ACTION: Notice of Intent.

SUMMARY: In compliance with the National Environmental Policy Act of 1969 (NEPA), as amended, and the Federal Land Policy and Management Act of 1976 (FLPMA), as amended, the Bureau of Land Management (BLM) Gunnison Field Office, Gunnison, Colorado, intends to prepare a Resource Management Plan (RMP) amendment with an associated Environmental Assessment (EA) to analyze potential updates to the Hartman Rocks Recreation Area Management Plan (2006). This action will determine the appropriate course of management for the area and may include an amendment to the Gunnison Resource Area Approved Resource Management Plan of February 1993. The BLM, by this notice, is announcing the beginning of the scoping process to solicit public comments and identify issues. The BLM will amend the existing Gunnison Resource Area RMP if necessary.

DATES: This notice initiates the public scoping process for the RMP amendment and associated EA. Comments on issues may be submitted in writing until October 15, 2013. The date(s) and location(s) of any scoping meetings will be announced at least 15 calendar days in advance, through local media, newspapers and the BLM Web site at: http://www.blm.gov/co/st/en/fo/gfo.html. To be considered, all comments must be received prior to the close of the 30-day scoping period or 30 days after the last public meeting, whichever is later. The BLM will provide additional opportunities for public participation as appropriate.

ADDRESSES: You may submit comments on issues and planning criteria related to Hartman Rocks Special Recreation Area Management Plan, Gunnison County by any of the following methods:

• Web site: http://www.blm.gov/co/st/en/fo/gfo.html

• Email: kmurphy@blm.gov

• Fax: 970-642-4425

• Mail: BLM, Gunnison Field Office, 650 S. 11th St., Gunnison, CO 81230

Documents pertinent to this proposal may be examined at the Gunnison Field Office.

FOR FURTHER INFORMATION CONTACT: Kristi Murphy, Outdoor Recreation Planner, telephone 970-642-4955; Gunnison Field Office (see address above); email kmurphy@blm.gov. You may also contact Kristi to have your name added to the mailing list.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM Gunnison Field Office, Gunnison, Colorado, intends to prepare an RMP amendment with an associated EA for the Gunnison Resource Area; announces the beginning of the scoping process; and seeks public input on issues and preliminary planning criteria. The planning area is located in Gunnison County, Colorado, and encompasses approximately 14,423 acres of public land in the Hartman Rocks Recreation Area. The BLM is proposing to amend the RMP for the Gunnison Resource Area dated February 1993 to designate Hartman Rocks Recreation Area as a Special Recreation Management Area. The proposed plan amendment will provide guidance and direction toward managing recreation in a manner that maintains or improves the condition and health of the unique landscape and natural resources while creating a sustainable recreation environment to promote a diversity of high quality recreation opportunities and provide for the health and safety of visitors.

The proposed plan amendment is needed due to issues with sensitive species, site-specific decisions that are no longer valid, increased visitor use, and other conditions. The proposed plan amendment would provide more direction to reduce human use impacts and conflicts in this area.

The purpose of the public scoping process is to determine relevant issues that will influence the scope of the environmental analysis, including alternatives, and guide the process. BLM personnel; Federal, State, and local agencies; and other stakeholders have identified the following preliminary issues for the plan amendment area:

• Special Recreation Management Area boundary determination;

• Travel management system to accommodate many uses while maintaining recreation settings;

• Cross country ski trails for winter recreation and motorized winter travel opportunities;

• Dispersed target shooting that maintains public safety;

• Managing a terrain park for motor-cross users;

• Human impacts from rock climbing;

• Camping impacts;

• Facility development;

• Public outreach and education;

• Law enforcement;

• Deer and elk winter range;

• Threatened and endangered species;

• Cultural resources and Native American concerns;

• Soils and erosion;

• Fire and fuels management; and

• Invasive non-native weed species.

You may submit comments on preliminary issues and planning criteria in writing to the BLM at any public scoping meeting, or you may submit them to the BLM using one of the methods listed in the ADDRESSES section above. To be most helpful, you should submit comments by the close of the 30-day scoping period or within 15 days after the last public meeting, whichever is later.

The BLM has also identified preliminary planning criteria, which include:

1. The BLM will continue to manage the Gunnison Resource Area to protect resources in accordance with FLPMA (43 U.S.C. 1701 et seq.), and other applicable laws and regulations.

2. The BLM will use a collaborative and multi-jurisdictional approach, where possible, to jointly determine the desired future condition of public lands, such as continued consultation with the Shooting Sports Roundtable.

3. The BLM will address the socioeconomic impacts of the alternatives.

4. The BLM will comply with NEPA, including the preparation of appropriate environmental analysis for the proposed action.

5. Planning decisions will strive to be compatible with existing plans and policies of adjacent Federal, State, local and tribal agencies as long as the decisions are consistent with Federal law governing the administration of public land.

The BLM will use the NEPA public participation requirements to assist the agency in satisfying the public involvement requirements under Section 106 of the National Historic Preservation Act (NHPA) (16 U.S.C. 470(f)) pursuant to 36 CFR 800.2(d)(3). The information about historic and cultural resources within the area potentially affected by the proposed action will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. Federal, State and local agencies, along with tribes and other stakeholders that may be interested in or affected by the proposed action the BLM is evaluating, are invited to participate in the scoping process and, if eligible, may request or be requested by the BLM to participate in the development of the environmental analysis as a cooperating agency.

The BLM will use an interdisciplinary approach to develop the plan amendment to consider the variety of resource issues and concerns identified during public scoping. Disciplines involved in the planning process will include specialists with expertise in rangeland management, minerals and geology, forestry, outdoor recreation, law enforcement, archaeology, wildlife and fisheries, lands and realty, hydrology, soils, vegetation and fire. The BLM will notify the Governor of Colorado, County Commissioners, local tribes and potentially affected members of the public of the planning process. The public is encouraged to help identify questions and concerns during the scoping phase.

Before including your address, phone number, email address, or other personal identifying information in your comment, you should be aware that your entire comment—including your personal identifying information—may be made publicly available at any time. While you can ask us in your comment to withhold your personal identifying information from public review, we cannot guarantee that we will be able to do so.

Authority: 40 CFR 1501.7, 43 CFR 1610.2.

Helen M. Hankins,
BLM Colorado State Director.

[FR Doc. 2013-22326 Filed 9-12-13; 8:45 am]

BILLING CODE 4310-JB-P